DEPARTMENT OF TRANSPORTATION

Federal Railroad Administration

[Docket No. FRA-2006-24646]

Union Pacific Railroad Company; Extension of Comment Period

The Union Pacific Railroad Company (UP) has petitioned the Federal Railroad Administration (FRA) seeking relief from the requirements of the Rules, Standards and Instructions found in Title 49 Code of Federal Regulations (CFR) § 236.586, Daily or after-trip test. Specifically, UP is seeking to change the administration of the first sentence in paragraph (a) from “intervals of not more than 2 months” to “intervals of not more than 92 days” for all cab signal devices on locomotives operated by UP. This waiver application is identified as Docket Number FRA-2006-24646.

FRA issued a public notice seeking comments from interested parties on UP's petition. See 71 FR 36166; June 23, 2006. FRA also held a public hearing on this proposal on May 31, 2007, and extended the comment period to June 10, 2007. See 72 FR 19579; April 18, 2007. At the May 31 hearing, FRA requested that UP submit additional information to the docket to support its waiver application. In order to give all interested parties time to comment on the additional information, FRA is extending the comment period to July 2, 2007.

All communications concerning this waiver petition should identify the appropriate docket number (e.g., Waiver Petition Docket Number FRA-2006-24646) and may be submitted by one of the following methods:

Web site: http://dms.dot.gov. Follow the instructions for submitting comments on the DOT electronic site;

Fax: 202-493-2251;

Mail: Docket Management Facility, U.S. Department of Transportation, 1200 New Jersey Avenue, SE., West Building Ground Floor, Room W12-140, Washington, DC 20590; or

Hand Delivery: 1200 New Jersey Avenue, SE., West Building Ground Floor, Room W12-140, Washington, DC 20590, between 9 a.m. and 5 p.m., Monday through Friday, except Federal holidays.

All written communications concerning these proceedings are available for examination during regular business hours (9 a.m.-5 p.m.) at the above facility. Documents in the public docket are also available for review and copying on the Internet at the docket facility Web site at http://dms.dot.gov.

Issued in Washington, DC on June 8, 2007.
Michael J. Logue,
Deputy Associate Administrator for Safety Compliance and Program Implementation.

[FR Doc. E7-11547 Filed 6-14-07; 8:45 am]

BILLING CODE 4910-06-P